DEPARTMENT OF COMMERCE

Foreign-Trade Zones Board

[B-29-2025]

Foreign-Trade Zone (FTZ) 189; Withdrawal of Notification of Proposed Production Activity; Grand River Aseptic Manufacturing; (Pharmaceutical Products); Caledonia and Grand Rapids, Michigan

Notice is hereby given of the withdrawal of the notification of proposed production activity submitted on behalf of Grand River Aseptic Manufacturing for its facilities in Caledonia and Grand Rapids, Michigan within Subzone 189H. The notification was docketed on May 21, 2025 (90 FR 23310, June 2, 2025). The withdrawal was requested on behalf of Grand River Aseptic Manufacturing on September 12, 2025.

Dated: September 12, 2025.
Elizabeth Whiteman,
Executive Secretary.

[FR Doc. 2025-17982 Filed 9-16-25; 8:45 am]

BILLING CODE 3510-DS-P